DEPARTMENT OF HOUSING AND URBAN DEVELOPMENT

[Docket No. FR-5117-N-102]

Notice of Submission of Proposed Information Collection to OMB; Automated Clearing House (ACH) Program Application—Title I Insurance Charge Payments System

AGENCY: Office of the Chief Information Officer, HUD.

ACTION: Notice.

SUMMARY: The proposed information collection requirement described below has been submitted to the Office of Management and Budget (OMB) for review, as required by the Paperwork Reduction Act. The Department is soliciting public comments on the subject proposal.

This information collection is used to collect data to establish an electronic premium payment method for the Title I Program. This information collection is designed to facilitate the collection of Title I insurance charges electronically in lieu of sending checks and other payment instruments by mail.

DATES: Comments Due Date: January 10, 2008.

ADDRESSES: Interested persons are invited to submit comments regarding this proposal. Comments should refer to the proposal by name and/or OMB approval Number (2502-0512) and should be sent to: HUD Desk Officer, Office of Management and Budget, New Executive Office Building, Washington, DC 20503; fax: 202-395-6974.

FOR FURTHER INFORMATION CONTACT: Lillian Deitzer, Departmental Reports Management Officer, QDAM, Department of Housing and Urban Development, 451 Seventh Street, SW., Washington, DC 20410; e-mail Lillian_L._Deitzer@HUD.gov or telephone (202) 402-8048. This is not a toll-free number. Copies of available documents submitted to OMB may be obtained from Ms. Deitzer.

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Automated Clearing House (ACH) Program Application—Title Insurance Charge Payments System.

OMB Approval Number: 2502-0512.

Form Numbers: HUD 56150.

Description of the Need for the Information and Its Proposed Use: This information collection is used to collect data to establish an electronic premium payment method for the Title I Program. This information collection is designed to facilitate the collection of Title I insurance charges electronically in lieu of sending checks and other payment instruments by mail.

Frequency of Submission: On occasion, Other Information only collected once per lender with possible changes submitted occasionally.

| Number of respondents | Annual responses | × | Hours per response | = | Burden hours
Reporting burden | 50 | 1 |  | 0.26 |  | 13

Total Estimated Burden Hours: 13.

Status: Extension of a currently approved collection.

Authority: Section 3507 of the Paperwork Reduction Act of 1995, 44 U.S.C. 35, as amended.

Dated: December 5, 2007.
Lillian L. Deitzer,
Departmental Paperwork Reduction Act Officer, Office of the Chief Information Officer.

[FR Doc. E7-23987 Filed 12-10-07; 8:45 am]

BILLING CODE 4210-67-P